FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 11, 2011.

A. Federal Reserve Bank of Atlanta (Clifford Stanford, Vice President) 1000 Peachtree Street, NE., Atlanta, Georgia 30309:

1. Jan Malcolm Jones, Jr., and Leslie Ann Jones, both in Jacksonville, Florida; to retain outstanding voting shares of Florida Capital Group, Inc., and thereby indirectly retain outstanding voting shares of Florida Capital Bank, both in Jacksonville, Florida.

Board of Governors of the Federal Reserve System, December 22, 2010.

Robert deV. Frierson,
Deputy Secretary of the Board.

[FR Doc. 2010-32651 Filed 12-27-10; 8:45 am]

BILLING CODE 6210-01-P